FEDERAL COMMUNICATIONS COMMISSION

47 CFR Part 73

[DA 06-1308; MB Docket No. 04-318; RM-11040]

Radio Broadcasting Services; Culebra and Vieques, Puerto Rico

AGENCY: Federal Communications Commission.

ACTION: Proposed rule; denial.

SUMMARY: We deny the petition for rule making filed by Western New Life, Inc., proposing the substitution of Channel 291A for Channel 254A at Culebra, Puerto Rico. To accommodate the substitution, Petitioner also proposed the deletion of vacant Channel 291B at Vieques, Puerto Rico. We find that neither the deletion of Channel 291B, nor the alternative downgrade and substitution of Channel 254A for Channel 291B at Vieques, is in the public interest. Specifically, expressions of interest have been filed to retain the Vieques vacant channel as a Class B allotment.

FOR FURTHER INFORMATION CONTACT: Sharon P. McDonald, Media Bureau, (202) 418-2180.

SUPPLEMENTARY INFORMATION: This is a synopsis of the Commission's Report and Order, MB Docket No. 04-318, adopted June 21, 2006, and released June 23, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20554, telephone 1-800-378-3160 or http://www.BCPIWEB.com. This document is not subject to the Congressional Review Act. (The Commission, is, therefore, not required to submit a copy of this Report and Order to GAO, pursuant to the Congressional Review Act, see 5 U.S.C. 801(a)(1)(A) because the proposed rule was denied.)

Federal Communications Commission.
John A. Karousos,
Assistant Chief, Audio Division, Media Bureau.

[FR Doc. E6-10729 Filed 7-11-06; 8:45 am]

BILLING CODE 6712-01-P